DEPARTMENT OF TRANSPORTATION

Surface Transportation Board

[Docket No. FD 35379]

RailAmerica, Inc., Palm Beach Holding, Inc., RailAmerica Transportation Corp., Central Railroad Company of Indianapolis, Chicago Ft. Wayne and Eastern Railroad Division, Fortress Investment Group, LLC, and RR Acquisition Holding, LLC—Control Exemption—Delphos Terminal Company, Inc.

AGENCY: Surface Transportation Board.

ACTION: Notice.

SUMMARY: The Board grants an exemption, under 49 U.S.C. 10502, from the prior approval requirements of 49 U.S.C. 11323-25, for RailAmerica, Inc. (RailAmerica); Palm Beach Holding, Inc. (Palm Beach); RailAmerica Transportation Corp. (RTC); Central Railroad Company of Indianapolis (CERA); Chicago Ft. Wayne and Eastern Railroad Division (CFE); Fortress Investment Group, LLC (Fortress), on behalf of certain private equity funds managed by Fortress and its affiliates; and RR Acquisition Holding, LLC (RR Acquisition), to acquire control of Delphos Terminal Company, Inc. (DTC), subject to labor protective conditions. Pursuant to an agreement that CERA, a Class III rail carrier, intends to enter into with Bunge North America (East), LLC (Bunge), the parent company of DTC, CERA will acquire from Bunge all of the issued and outstanding shares of stock of DTC and will thus acquire direct control of DTC. Fortress, RR Acquisition, RailAmerica, Palm Beach, and RTC will indirectly control DTC, because Fortress's noncarrier affiliate, RR Acquisition, controls noncarrier RailAmerica; RailAmerica directly controls noncarrier Palm Beach; Palm Beach directly controls noncarrier RTC; and RTC directly controls CERA. RailAmerica is a holding company that directly or indirectly controls 1 Class II and 29 Class III railroads. Fortress is a noncarrier that indirectly controls 1 Class II rail carrier.¹

¹ The Board exempted the transfer of indirect control of that Class II carrier, Florida East Coast Railway, LLC (FEC), from Fortress to RailAmerica, with Fortress retaining indirect control of RailAmerica, in Fortress Inv. Group, LLC et al.—Exemption for Transaction within a Corporate Family, Docket No. FD 35123 (STB served Mar. 19, 2008). According to petitioners, to date, RailAmerica has not yet exercised the control of FEC.

DATES: This exemption will be effective on September 25, 2010. Petitions to stay must be filed by September 3, 2010. Petitions to reopen must be filed by September 15, 2010.

ADDRESSES: Send an original and 10 copies of all pleadings, referring to Docket No. FD 35379, to: Surface Transportation Board, 395 E Street, SW., Washington, DC 20423-0001. In addition, send one copy of pleadings to Louis E. Gitomer, Esq., Law Offices of Louis E. Gitomer, 600 Baltimore Avenue, Suite 301, Towson, MD 21204.

FOR FURTHER INFORMATION CONTACT: Eric Davis, (202) 245-0393 [Assistance for the hearing impaired is available through the Federal Information Relay Service (FIRS) at 1-800-877-8339].

SUPPLEMENTARY INFORMATION: Additional information is contained in the Board's decision. Board decisions and notices are available on our Web site at http://www.stb.dot.gov.

Decided: August 25, 2010.
By the Board, Chairman Elliott, Vice Chairman Mulvey, and Commissioner Nottingham.
Kulunie L. Cannon,
Clearance Clerk.

[FR Doc. 2010-21626 Filed 8-30-10; 8:45 am]

BILLING CODE 4915-01-P